ENVIRONMENTAL PROTECTION AGENCY

[EPA-R03-SFUND-2011-0508; FRL-9317-3]

Notice of Proposed Prospective Purchaser Agreement Amendment

AGENCY: Environmental Protection Agency (EPA).

ACTION: Notice; Request for Public Comment.

SUMMARY: Notice is hereby given that a proposed prospective purchaser agreement amendment (“PPA Amendment”) associated with the Fischer & Porter Superfund Site in Warminster Township, Bucks County, Pennsylvania was executed by the Environmental Protection Agency (“EPA”) and the Department of Justice and is now subject to public comment, after which the United States may modify or withdraw its consent if comments received disclose facts or considerations which indicate that the PPA Amendment is inappropriate, improper, or inadequate. The PPA Amendment would resolve certain potential EPA claims under Sections 106 and 107 of CERCLA, 42 U.S.C. 9606 and 9607, against Blue Marlin Associates (“Purchasers”). In lieu of financial consideration, in exchange for EPA's covenant not to sue for response costs incurred at the Site, the settlement would require the Purchasers to, among other things, conduct a vapor intrusion study on their existing building located on the parcel adjacent to the property under consideration in the PPA Amendment, and, if any unacceptable risks from vapor intrusion were shown to be present, to take appropriate remedial measures as approved by EPA.

For thirty (30) days following the date of publication of this notice, the Agency will receive written comments relating to the PPA Amendment. The Agency's response to any comments received will be available for public inspection at the U.S. Environmental Protection Agency, Region III Office, 1650 Arch Street, Philadelphia PA 19103.

DATES: Comments must be submitted on or before July 13, 2011.

ADDRESSES: Submit your comments, identified by Docket ID No. EPA-R03-SFUND-2011-0508, by one of the following methods:

• http://www.regulations.gov. Follow the online instructions for submitting comments.

• E-mail: Elizabeth B. Lukens, Senior Assistant Regional Counsel at lukens.elizabeth@epa.gov.

• Mail: EPA-R03-SFUND-2011-0508, Elizabeth B. Lukens, Senior Assistant Regional Counsel (3RC44), U.S. EPA, Region III, 1650 Arch Street, Philadelphia, PA 19103-2029.

• Hand Delivery: Elizabeth B. Lukens, Senior Assistant Regional Counsel (3RC44), U.S. EPA, Region III, 1650 Arch Street, Philadelphia, PA 19103-2029. Phone: 215-814-2661. Business Hours: Monday through Friday 9 a.m. to 4 p.m. Such deliveries are accepted only during business hours of operation, and special arrangements should be made for deliveries of boxed information.

Instructions: Direct your comments to Docket ID no. EPA-R03-SFUND-2011-0508. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index for docket ID no. EPA-R03-SFUND-2011-0508. The PPA Amendment itself displays a separate EPA internal docket number (“CERC-PPA-2000-0007”) used for other purposes. Although listed in the index, some information may not be publicly available, i.e., CBI or other information whose disclosure is restricted by statute. Certain other material, such as copyrighted material, is not placed on the Internet and will be available only in hard copy form.

Additionally, the PPA Amendment and additional background information are available for public inspection at the U.S. Environmental Protection Agency, Region III Office, 1650 Arch Street, Philadelphia, PA 19103. A copy of the PPA Amendment may be obtained from Lydia Guy (3RC00), Regional Hearing Clerk, U.S. Environmental Protection Agency, Region III Office, 1650 Arch Street, Philadelphia, PA 19103, or guy.lydia@epa.gov.

FOR FURTHER INFORMATION CONTACT: Elizabeth B. Lukens (3RC44), Senior Assistant Regional Counsel, U.S. Environmental Protection Agency, Region III, 1650 Arch Street, Philadelphia, PA 19103,

Phone: (215) 814-2661.

SUPPLEMENTARY INFORMATION: This notice is given in accordance with the Comprehensive Environmental Response, Compensation and Liability Act of 1980 as Amended by the Superfund Amendments and Reauthorization Act of 1986, (“CERCLA”), 42 U.S.C. 9601-9675.

Dated: June 2, 2011.
Kathryn A. Hodgkiss,
Acting Director, Hazardous Site Cleanup Division, Region III.

[FR Doc. 2011-14570 Filed 6-10-11; 8:45 am]

BILLING CODE 6560-50-P